DEPARTMENT OF HEALTH AND HUMAN SERVICES

Centers for Disease Control and Prevention

[Program Announcement 01117]

Controlling Asthma in American Cities Project (CAACP); Notice of Availability of Funds

A. Purpose

The Centers for Disease Control and Prevention (CDC) announces the availability of fiscal year (FY) 2001 funds for a cooperative agreement program for Controlling Asthma in American Cities Project (CAACP). This program addresses the “Healthy People 2010” focus areas of Respiratory Diseases, Environmental Health, and Access to Quality Health Services.

The purpose of the CAACP is to utilize past successes and other innovative approaches to improve overall asthma management in order to decrease asthma-related morbidity among children (0-18 years) in a defined urban population with a large and unmet asthma control need.

No research may be conducted as part of this cooperative agreement.

B. Eligible Applicants

Applications may be submitted by public and private nonprofit organizations, or local chapters of national advocacy associations that deal primarily or largely with asthma. This includes universities, hospitals, and city or county public health departments. In addition, applicants must have direct access to the target population(s) and be located in the community that will be served by the proposed interventions.

To be an eligible applicant, the total population of the communities to be served must be between 300,000 and 700,000 people. Note: For a metropolitan area of greater than 700,000 people, the population requirement may be met by proposing to work in selected communities within the area. This information must be submitted in the abstract of the application. The documentation accepted to verify eligibility may be based on the most current census data available. If this information is not included, the application will be determined as non-responsive and will be returned to the applicant without review.

Note: Title 2 of the United States Code, Chapter 26, Section 1611 states that an organization described in section 501(c)(4) of the Internal Revenue Code of 1986 that engages in lobbying activities is not eligible to receive Federal funds constituting an award, grant, cooperative agreement, contract, loan, or any other form.

C. Availability of Funds

Approximately $3,000,000 is available in FY 2001 to fund approximately four to six planning projects (Phase I). It is expected that the average award will be approximately $450,000, ranging from $300,000 to $500,000.

Applications that request more than the maximum level of funding ($500,000) will be determined non-responsive to this announcement and returned to the applicant.

It is expected that the awards will begin on or about September 30, 2001, and will be made for a 12-month budget period within a project period of two years. Funding estimates may change.

Depending on the availability of funds, a new competitive announcement, limited to Phase I awardees, may be announced in the future that will implement the intervention activities. It is expected that the number of Phase II (Intervention) recipients awarded will be approximately three.

Use of Funds

Budgeted funds may not be used to fund asthma surveillance, except those directly related to the evaluation of the CAACP project.

Funding Preferences

Funding preference may include: (1) geographic balance; (2) minority populations with a disproportionate asthma burden, and (3) a balance of proposed intervention strategies.

D. Programmatic Interests

Intervention Ideas/Concepts

Decreasing asthma-related morbidity in a defined population will require a comprehensive and innovative approach, based on current scientific knowledge and an in-depth understanding of the communities to be focused upon, to improving asthma medical care and self-care within families with a child with asthma. Intervention ideas should be based on asthma care concepts which have been analyzed through the peer-review process and shown to be effective in improving asthma control.

Collaboration

Success of the planning phase and intervention phase of the proposed project will depend heavily on the ability of the grantee to form or work through an effective consortium. The applicant must have the experience, ability, and vision to lead such an effort through the active coordination and participation of the most important and influential health and health care leaders in their communities.

E. Program Requirements

In conducting activities to achieve the purpose of this program, the recipient will be responsible for the activities under 1. (Recipient Activities), and CDC will be responsible for the activities listed under 2. (CDC Activities).

1. Recipient Activities

a. Develop a plan that includes time-phased intervention objectives, protocols, relevant policy initiatives, and evaluation plans that address the asthma objective(s) in Healthy People 2010.

b. Collect baseline asthma data in the communities to be served by the project. The data should include measures of asthma morbidity and actual asthma care representative of the entire study population before the intervention phase begins.

c. Develop or enhance an asthma consortium that includes, among others, public, private, and academic partners and community based organizations (CBO's) that can be sustained for subsequent research and program development.

d. Serve as a resource for other asthma projects.

e. Disseminate relevant findings.

2. CDC Activities

a. Provide technical assistance, as requested, in the development of intervention protocols, evaluation plans, communication issues, policy issues, and the interpretation of the scientific literature related to asthma management and control.

b. Provide liaison among grantees and potential sources of information and assistance.

c. Coordinate activities among sites, when appropriate.

d. Convene meetings among collaborators to discuss findings and improve outcomes.

F. Content

Letter of Intent

A one-page non-binding letter of intent (LOI) is requested to enable CDC to determine the level of interest in this announcement. The LOI should provide a brief description of the proposed project and identify the principle investigator, organizations actively involved in the proposed project, and the address and telephone number for key contacts.

Applications

Your application will be evaluated on the criteria listed, so it is important to follow them in laying out your program plan. The narrative should be no more than 25 double-spaces, printed on one side, with one inch margins and unreduced font. The applicant should provide a detailed description of activities. In addition to the application forms, the application must contain the following in this order:

1. Table of Contents

A table of contents that provides page numbers for each of the following sections should be included.

2. Abstract

A one-page, single-spaced abstract must be submitted with the application. The heading should include the title of the cooperative agreement, project title, organization's name and address, and the principle investigator's name and telephone number. The abstract should briefly summarize the program for which funds are requested, the activities to be undertaken, and the applicant's organizational structure. The abstract must also contain a verification that the total population of the communities to be served will be between 300,000 and 700,000 people.

3. Project Narrative

The narrative must contain the following sections:

a. Time-framed Objectives. Specific, measurable, and time-framed objectives should be developed based on the project narrative. Creation of a two year time-line for meeting these objectives is expected.

b. Understanding of the medical and psychological literature regarding asthma control techniques and past intervention attempts. Emphasis should be placed on population-based methods of asthma control.

c. A brief description of the community or segment of city (or city as a whole) identified as the population to be served by this project. This should include basic demographic, socio-economic, and health information (i.e., number of primary care physicians, asthma specialists, hospitals, public clinics in these areas or accessible to the people living in these areas).

d. Understanding of the asthma care and control issues facing the community selected to be served by this project. Specific documentation of unmet needs, such as the proportion of children uninsured, measures of asthma morbidity, and information on the quality of asthma care, if available, should be described here. Why these communities or areas of the city were chosen for project inclusion should also be briefly explained.

e. Collaboration within the consortium. A description of the important health care leaders and institutions in your city and how and in what way you plan to involve them in the project activities must be included. Using the list of potential collaborators (See addendum 2, V) as a template, you may wish to explain what role each of these organizations play in the asthma control plans of your city and why they will or will not be included/emphasized in the project. The expected financial arrangements between applicant and collaborators should be described here. A letter from representatives of each of the major collaborators in the consortium describing how they plan to actively participate and add to the project should be included in the application.

f. Initial intervention ideas. A description of your initial intervention ideas should be elaborated upon, including their potential feasibility and benefit in controlling asthma symptoms or unscheduled visits.

g. Process of creating comprehensive intervention strategies (including protocols) from the initial intervention ideas. The process conceived to take place over the two year planning period in order to be ready for the intervention period should be described in this section.

h. Plans for an evaluation of the two year planning period (phase I). The project evaluation should address the experiences and lessons of such city-wide collaboration efforts, community assessment and information sharing, protocol development, and other planning phase activities. Evaluation measures, whether quantitative or qualitative, should be described.

i. A detailed plan to obtain a comprehensive baseline assessment of asthma-related morbidity and care practices in the communities involved in this project. A critical description of how this baseline assessment will be used to ultimately evaluate the intervention activities of the project (i.e., changes in population-based measures of asthma morbidity, asthma care, asthma education, access to primary care, or other issues important to asthma control addressed in the intervention strategies) must be included. Evaluation measures, whether quantitative or qualitative, should be described.

j. A description of those activities conducted by the applicant and/or the applicant's organization related to, but not supported by the cooperative agreement.

4. Identification of Project Personnel

Include a biographical sketch (i.e., one page summary or abbreviated curriculum vitae) for the principal investigator and/or project coordinator and other key personnel. Describe the overall personnel capabilities of the applicant's organization in relation to the potential project needs. To the extent possible, list of all the proposed project staff regardless of their funding source. The list should include title, qualifications, relevant experience, percentage of time each will devote to the project, as well as that portion of the salary to be paid by the cooperative agreement.

5. Facilities and Equipment

Describe the access and availability of any facilities and equipment necessary to carry out the planning phase project.

6. Budget and Budget Justification

Provide a detailed budget which indicates the anticipated costs for personnel, fringe benefits, travel, supplies, contractual, consultants, equipment, indirect and other items. The required detailed budget is not considered to be part of the program narrative.

G. Application Submission and Deadline

Submit the original and two copies of PHS 5161-1 (OMB Number 0920-0428) on or before August 10, 2001, to the Grants Management Specialist identified in the “Where to Obtain Additional Information” section of this announcement.

Deadline: Applications shall be considered as meeting the deadline if they are either:

1. Received on or before the deadline date; or

2. Sent on or before the deadline date and received in time for submission to the independent review group. (Applicants must request a legibly dated U.S. Postal Service postmark or obtain a legibly dated receipt from a commercial carrier or U.S. Postal Service. Private metered postmarks shall not be acceptable as proof of timely mailing.)

Late: Applications which do not meet the criteria in 1. or 2. above will be returned to the applicant.

H. Evaluation Criteria

Each application will be evaluated individually against the following criteria by an independent panel of experts appointed by CDC:

1. Goals and Objectives: (10 percent)

The extent to which the applicant has described a plan to make use of this two year planning period. This should include: Details in explaining how this time period will be used to create or strengthen a city-wide asthma consortium, design and fine tune effective intervention strategies, begin efforts to improve quality of asthma care locally, and initiate the processes of community empowerment/change that will be focused on.

2. Background: (10 percent)

The extent to which the proposal addresses the critical evaluation of existing asthma control literature, and the identification of the asthma care gaps and issues in the specific communities designated to be the focus of this intervention project will be evaluated. Such an evaluation of the asthma care gaps in the proposed community could include the proportion of children uninsured, measures of asthma morbidity, and information on the quality of asthma care.

3. Asthma Control Intervention Ideas: (20 percent)

a. The extent to which the application describes a plan to improve asthma care in the specific communities selected by the applicant will be evaluated. This includes how well conceived the intervention concepts are in terms of practicality, effectiveness (likelihood to change asthma morbidity), inclusiveness (whether all children with asthma in the study area will have access to the interventions), comprehensiveness (providing multiple ways to address asthma control problems), originality, and level of detail included in proposal (i.e., appropriate use of examples to strengthen ideas in the proposal).

b. The extent to which the proposed processes to improve and expand these intervention ideas during the planning phase are described.

4. Collaborative Effort: (25 percent)

The extent to which the applicant and the consortium have the experience, ability, and vision to succeed in an effort to reduce the asthma burden in the proposed community through the participation of the most important and influential health care and civic leaders in the community. This includes the specific ways in which the consortium will operate, a history of successful operation of the consortium in that city or community, or other evidence that a proposed collaboration would be effective, and detailed plans to ensure active collaboration of all project participants during the entire period of this project.

5. Principal Investigator and Staff: (20 percent)

a. The extent to which the qualifications and the proposed project time allocation of the principal investigator are described. A principal investigator who has conducted, evaluated, and published asthma research in peer-reviewed journals, and has specific authority and responsibility to carry out the proposed project is expected.

b. The extent to which a description of additional staff to be assigned to this project, their qualifications, the proposed project time allocation, and the role of the proposed staff is linked to program objectives.

c. The extent to which the facilities and other resources that would define the applicant's capacity to accomplish the project are described.

6. Evaluation Plans: (15 percent)

The extent to which the applicant has described a realistic and comprehensive plan to accurately measure changes in population-based asthma morbidity, specific asthma care, asthma education or other significant intervention strategies over time using qualitative and quantitative methods will be scored. The ability of the applicant to begin the baseline data collection during the planning phase and to conduct a process evaluation of the planning period will be part of this evaluation score.

7. Budget: (not scored)

The extent to which the budget is clearly detailed, justified, and appropriate for activities proposed.

I. Other Requirements

Technical Reporting Requirements

Provide CDC with original plus two copies of:

1. Semi-annual progress reports.

2. Financial status report, no more than 90 days after the end of the budget period.

3. Final financial and performance reports, no more than 90 days after the end of the project period.

Send all reports to the Grants Management Specialist identified in the “Where to Obtain Additional Information” section of this announcement.

The following additional requirements are applicable to this program. For a complete description of each, see Attachment I in the application kit.

AR-7 Executive Order 12372 Review

AR-8 Public Health System Reporting Requirements

AR-9 Paperwork Reduction Act Requirements

AR-10 Smoke-Free Workplace Requirements

AR-11 Healthy People 2010

AR-12 Lobbying Restrictions

AR-14 Accounting System Requirements

AR-15 Proof of Non-Profit Status

J. Authority and Catalog of Federal Domestic Assistance Number

This program is authorized under section 301 of the Public Health Service Act, [42 U.S.C. section 241 and 247b], as amended. The Catalog of Federal Domestic Assistance number is 93.283.

K. Where to Obtain Additional Information

This and other CDC announcements can be found on the CDC home page Internet address— http://www.cdc.gov Click on “Funding” then “Grants and Cooperative Agreements.”

To receive additional written information and to request an application kit, call 1-888-GRANTS4 (1-888-472-6874). You will be asked to leave your name and address and will be instructed to identify the Program Announcement number of interest.

If you have questions after reviewing the contents of all the documents, business management technical assistance may be obtained from: Sonia Rowell, Grants Management Specialist, Grants Management Branch, Procurement and Grants Office, Centers for Disease Control and Prevention, 2920 Brandywine Road, Room 3000, MS E-13, Atlanta, GA 30341-4146. Telephone number: 770-488-2724, Email address: svp1@cdc.gov.

For program technical assistance, contact: Michael Friedman, M.D., Air Pollution and Respiratory Health Branch, National Center for Environmental Health, Centers for Disease Control and Prevention, 1600 Clifton Road, NE., MS E-17, Atlanta, Georgia 30333, Telephone number: 404-639-2520, Email address: mff7@cdc.gov.

Signed: June 4, 2001.
John L. Williams,
Director, Procurement and Grants Office, Centers for Disease Control and Prevention (CDC).

[FR Doc. 01-14447 Filed 6-7-01; 8:45 am]

BILLING CODE 4163-18-P